DEPARTMENT OF LABOR

Agency Information Collection Activities; Submission for OMB Review; Comment Request; Pattern of Violations

ACTION: Notice of availability; request for comments.

SUMMARY: The Department of Labor (DOL) is submitting Mine Safety and Health Administration (MSHA)-sponsored information collection request (ICR) to the Office of Management and Budget (OMB) for review and approval in accordance with the Paperwork Reduction Act of 1995 (PRA). Public comments on the ICR are invited.

DATES: The OMB will consider all written comments that the agency receives on or before September 2, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Nora Hernandez by telephone at 202-693-8633, or by email at DOL_PRA_PUBLIC@dol.gov.

SUPPLEMENTARY INFORMATION: The Federal Mine Safety and Health Act of 1977 (Mine Act), as amended, places the ultimate responsibility on mine operators for ensuring the safety and health of miners. The legislative history of the Mine Act emphasizes that Congress included the pattern of violations (POV) provision for mine operators who demonstrated a disregard for the safety and health of miners through a recurring pattern of significant and substantial (S&S) violations. MSHA was to use the POV provision in situations where other enforcement actions had been ineffective at bringing the mines into compliance with safety and health standards.

Under section 104.2, at least once each year MSHA reviews the compliance and other records of mines to determine whether any mines meet the POV criteria. In determining whether to issue a POV notice, MSHA considers mitigating circumstances facing mine operators, in accordance with section 104.2(a)(8). Specifically, among the items MSHA could consider is any approved corrective action program (CAP) that the mine is implementing to reduce S&S violations, together with any improved results. This information collection is designed to encourage operators to take proactive measures to bring their mines into compliance. MSHA believes that operators who implement CAPs are thereby demonstrating a commitment to complying with MSHA's safety and health standards and to restoring safe and healthful working conditions for miners.

For additional substantive information about this ICR, see the related notice published in the Federal Register on March 22, 2022 (87 FR 16239).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Pattern of Violations.

OMB Control Number: 1219-0150.

Affected Public: Businesses or other for-profits institutions.

Total Estimated Number of Respondents: 6.

Total Estimated Number of Responses: 12.

Total Estimated Annual Time Burden: 304 hours.

Total Estimated Annual Other Costs Burden: $800.

(Authority: 44 U.S.C. 3507(a)(1)(D))

Nora Hernandez,
Departmental Clearance Officer.

[FR Doc. 2022-16586 Filed 8-2-22; 8:45 am]

BILLING CODE 4510-43-P